DEPARTMENT OF AGRICULTURE

Animal and Plant Health Inspection Service

[Docket No. APHIS-2010-0010]

Pale Cyst Nematode; Update of Quarantined Areas

AGENCY: Animal and Plant Health Inspection Service, USDA.

ACTION: Notice of changes to quarantined area.

SUMMARY: We are advising the public that we have made changes to the area in the State of Idaho that is quarantined to prevent the spread of pale cyst nematode. The description of the quarantined area was updated several times between October 2009 and February 2010. As a result of these changes, 5,710 acres have been removed from the quarantined area.

FOR FURTHER INFORMATION CONTACT: Mr. Jonathan M. Jones, National Program Manager, Emergency and Domestic Programs, PPQ, 4700 River Road Unit 160, Riverdale, MD 20737; (301) 734-5038.

SUPPLEMENTARY INFORMATION:

Background

The pale cyst nematode (PCN, Globodera pallida) is a major pest of potato crops in cool-temperature areas. Other solanaceous hosts include tomatoes, eggplants, peppers, tomatillos, and some weeds. The PCN is thought to have originated in Peru and is now widely distributed in many potato-growing regions of the world. PCN infestations may be expressed as patches of poor growth. Affected potato plants may exhibit yellowing, wilting, or death of foliage. Even with only minor symptoms on the foliage, potato tuber size can be affected. Unmanaged infestations can cause potato yield loss ranging from 20 to 70 percent. The spread of this pest in the United States could result in a loss of domestic or foreign markets for U.S. potatoes and other commodities.

In 7 CFR part 301, the PCN quarantine regulations (§§ 301.86 through 301.86-9, referred to below as the regulations) set out procedures for determining the areas quarantined for PCN and impose restrictions on the interstate movement of regulated articles from quarantined areas.

Section 301.86-3 of the regulations sets out the procedures for determining the areas quarantined for PCN. Paragraph (a) of § 301.86-3 states that, in accordance with the criteria listed in § 301.86-3(c), the Administrator will designate as a quarantined area each field that has been found to be infested with PCN, each field that has been found to be associated with an infested field, and any area that the Administrator considers necessary to quarantine because of its inseparability for quarantine enforcement purposes from infested or associated fields.

Paragraph (d) provides for the removal of fields from quarantine. An infested field will be removed from quarantine when a protocol approved by the Administrator as sufficient to support the removal of infested fields from quarantine has been completed and the field has been found to be free of PCN. An associated field will be removed from quarantine when the field has been found to be free of PCN according to a protocol approved by the Administrator as sufficient to support removal of associated fields from quarantine. Any area other than infested or associated fields that has been quarantined by the Administrator because of its inseparability for quarantine enforcement purposes from infested or associated fields will be removed from quarantine when the relevant infested or associated fields are removed from quarantine.

Paragraph (a) of § 301.86-3 further provides that the Administrator will publish a description of the quarantined area on the Plant Protection and Quarantine (PPQ) Web site, (http://www.aphis.usda.gov/plant_health/plant_pest_info/potato/pcn.shtml). The description of the quarantined area will include the date the description was last updated and a description of the changes that have been made to the quarantined area. The description of the quarantined area may also be obtained by request from any local office of PPQ; local offices are listed in telephone directories. Finally, paragraph (a) establishes that, after a change is made to the quarantined area, we will publish a notice in the Federal Register informing the public that the change has occurred and describing the change to the quarantined area.

Therefore, we are publishing this notice to inform the public of changes to the PCN quarantined area in the State of Idaho. The changes are as follows:

• On October 23, 2009, we updated the quarantined area to remove 3.32 acres from Bingham County and 623.30 acres from Bonneville County.

• On November 23, 2009, we updated the quarantined area to remove 465.13 acres from Bingham County and 402.97 acres from Bonneville County.

• On December 18, 2009, we updated the quarantined area to remove 1,313.92 acres from Bingham County and 648.36 acres from Bonneville County.

• On January 8, 2010, we updated the quarantined area to remove 188.79 acres from Bingham County and 1,373.15 acres from Bonneville County.

• On January 15, 2010, we updated the quarantined area to remove 621.52 acres from Bonneville County.

• On February 15, 2010, we updated the quarantined area to remove 70 acres from Bonneville County.

This acreage consisted of associated fields that were found to be free of PCN according to a survey protocol approved by the Administrator in accordance with § 301.86-3 as sufficient to support removal of associated fields from quarantine.

The current map of the quarantined area can be viewed on the PPQ Web site at (http://www.aphis.usda.gov/plant_health/plant_pest_info/potato/pcn.shtml).

Authority: 7 U.S.C. 7701-7772 and 7781-7786; 7 CFR 2.22, 2.80, and 371.3.

Done in Washington, DC, this 4th day of March 2010.

Kevin Shea,
Acting Administrator, Animal and Plant Health Inspection Service.

[FR Doc. 2010-5119 Filed 3-9-10; 12:48 pm]

BILLING CODE 3410-34-S